DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual Regulatory Agenda.

SUMMARY: This agenda provides summary descriptions of regulations being developed by the Civilian Agency Acquisition Council and the Defense Acquisition Regulations Council in compliance with Executive Order 12866 “Regulatory Planning and Review, as reaffirmed and amended in Executive Order 13563, “Improving Regulation and Regulatory Review,” and Executive Order 14094, “Modernizing Regulatory Review.”

This agenda is being published to allow interested persons an opportunity to participate in the rulemaking process. Additionally, members of the public can track the progress of any open and pending FAR rule via the “Open FAR Cases” report, which is publicly available at https://www.acq.osd.mil/dpap/dars/far_case_status.html.

The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking website at https://www.regulations.gov.

FOR FURTHER INFORMATION CONTACT: Lois Mandell, Division Director, Regulatory Secretariat Division, 1800 F Street NW, 6th Floor, Washington, DC 20405-0001, 202-501-4755 or by email at lois.mandell@gsa.gov.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR website at https://www.acquisition.gov/far.

William F. Clark,
Director, Office of Government-wide Acquisition Policy, Office of Acquisition Policy, Office of Government-wide Policy.

DOD/GSA/NASA (FAR)—Proposed Rule Stage
Sequence No. | Title | Regulation Identifier No.
237 | Federal Acquisition Regulation (FAR); FAR Case 2017-016, Controlled Unclassified Information (CUI) | 9000-AN56
238 | Federal Acquisition Regulation (FAR); FAR Case 2021-016, Minimizing the Risk of Climate Change in Federal Acquisitions | 9000-AO33
239 | Federal Acquisition Regulation (FAR); FAR Case 2023-002, Supply Chain Software Security | 9000-AO49

DOD/GSA/NASA (FAR)—Final Rule Stage
Sequence No. | Title | Regulation Identifier No.
240 | Federal Acquisition Regulation (FAR); FAR Case 2018-017, Prohibition on Certain Telecommunications and Video Surveillance Services or Equipment | 9000-AN83
241 | Federal Acquisition Regulation (FAR); FAR Case 2019-009, Prohibition on Contracting With Entities Using Certain Telecommunications and Video Surveillance Services or Equipment | 9000-AN92
242 | Federal Acquisition Regulation (FAR); FAR Case 2021-015, Disclosure of Greenhouse Gas Emissions and Climate-Related Financial Risk | 9000-AO32
243 | Federal Acquisition Regulation (FAR); FAR Case 2021-017, Cyber Threat and Incident Reporting and Information Sharing | 9000-AO34
244 | Federal Acquisition Regulation (FAR); FAR Case 2023-010, Prohibition on a ByteDance Covered Application | 9000-AO58
245 | Federal Acquisition Regulation (FAR); FAR Case 2023-021, Pay Equity and Transparency in Federal Contracting | 9000-AO69

DOD/GSA/NASA (FAR)—Long-Term Actions
Sequence No. | Title | Regulation Identifier No.
246 | Federal Acquisition Regulation (FAR); FAR Case 2020-011, Implementation of Federal Acquisition Supply Chain Security Act (FASCSA) Orders | 9000-AO13

DOD/GSA/NASA (FAR)—Completed Actions
Sequence No. | Title | Regulation Identifier No.
247 | Federal Acquisition Regulation (FAR); FAR Case 2022-006, Sustainable Procurement | 9000-AO43

DEPARTMENT OF DEFENSE/GENERAL SERVICES ADMINISTRATION/NATIONAL AERONAUTICS AND SPACE ADMINISTRATION (FAR)

Proposed Rule Stage

237. Federal Acquisition Regulation (FAR); FAR Case 2017-016, Controlled Unclassified Information (CUI) [9000-AN56]

Legal Authority: 40 U.S.C. 121(c); 10 U.S.C. ch. 4; 10 U.S.C. ch. 137 legacy provisions; 10 U.S.C. 3016; 51 U.S.C. 20113

Abstract: This rule will apply the controlled unclassified information (CUI) program requirements in Federal contracts in a uniform manner to protect CUI. This rule is one element of a larger strategy to improve the Government's efforts to identify, deter, protect against, detect, and respond to increasing sophisticated threat actions targeting Federal contractors. This rule is being issued in accordance with the National Archives and Records Administration (NARA) regulations implementing the CUI program per Executive Order 13556 issued November 4, 2010, as implemented in NARA's implementing regulations.

Timetable:

Action | Date | FR Cite
NPRM | 10/00/24 |
NPRM Comment Period End | 12/00/24 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN56

238. Federal Acquisition Regulation (FAR); FAR Case 2021-016, Minimizing the Risk of Climate Change in Federal Acquisitions [9000-AO33]

Legal Authority: 40 U.S.C. 121(c); 10 U.S.C. ch. 4; 10 U.S.C. ch. 137 legacy provisions; 10 U.S.C. 3016; 51 U.S.C. 20113

Abstract: This rule will allow agencies to: (1) provide a preference for proposed solutions that have lower life-cycle greenhouse gas emissions; and (2) require a Federal contractor to identify and manage climate risks that may impact contract performance. This rule is being issued in accordance with section 5(b)(ii) of the Executive Order 14030 titled “Climate-Related Financial Risk.” DoD, GSA, and NASA published an advance notice of proposed rulemaking in October of 2021 seeking feedback from the public on ways in which the Government could consider greenhouse gas emissions and climate risks in Federal procurement. The feedback is being considered in the development of the proposed rule.

Timetable:

Action | Date | FR Cite
ANPRM | 10/15/21 | 86 FR 57404
Comment Period Extended | 12/07/21 | 86 FR 69218
ANPRM Comment Period End | 01/13/22 |
NPRM | 07/00/24 |
NPRM Comment Period End | 09/00/24 |

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO33

239. Federal Acquisition Regulation (FAR); FAR Case 2023-002, Supply Chain Software Security [9000-AO49]

Legal Authority: 40 U.S.C. 121(c); 10 U.S.C. ch. 4; 10 U.S.C. ch. 137 legacy provisions; 10 U.S.C. 3016; 51 U.S.C. 20113

Abstract: This rule will require suppliers of software available for purchase by Federal agencies to comply with the Department of Homeland Security Cybersecurity and Infrastructure Security Agency Secure Software Development Attestation Form, and requirements for critical software. This rule is being issued in accordance with section 4(n) and 4(k) of the Executive Order 14028 titled “Improving the Nation's Cybersecurity” and Office of Management and Budget Memorandums 22-18 and 23-16.

Timetable:

Action | Date | FR Cite
NPRM | 07/00/24 |
NPRM Comment Period End | 09/00/24 |

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO49

DEPARTMENT OF DEFENSE/GENERAL SERVICES ADMINISTRATION/NATIONAL AERONAUTICS AND SPACE ADMINISTRATION (FAR)

Final Rule Stage

240. Federal Acquisition Regulation (FAR); FAR Case 2018-017, Prohibition on Certain Telecommunications and Video Surveillance Services or Equipment [9000-AN83]

Legal Authority: 40 U.S.C. 121(c); 10 U.S.C. ch. 4; 10 U.S.C. ch. 137 legacy provisions; 10 U.S.C. 3016; 51 U.S.C. 20113

Abstract: This rule will finalize an interim rule that prohibits the Government from procuring covered telecommunications equipment and services from Huawei Technologies Company, ZTE Corporation, Hytera Communications Corporation, Hangzhou Technology Company, or Dahua Technology Company, to include any subsidiaries or affiliates. The FAR provisions require that an offeror represent at an entity level in SAM, and if applicable on an offer-by-offer basis, if the offeror will or will not provide any covered telecommunications equipment or services to the Government. If an offeror responds in an offer that it will provide covered telecommunications, the offeror will need to provide additional disclosures. This FAR rule protects U.S. networks against cyber activities conducted through Chinese Government-supported telecommunications equipment and services. This rule is being issued in accordance with section 889 (a)(1)(A) of the National Defense Authorization Act for Fiscal Year 2019. Paragraph (a)(1)(B) of section 889 is being implemented separately through FAR Case 2019-009. DoD, GSA and NASA received public comments in response to the interim rules published in August and December of 2019, which are being considered in the development of the final rule.

Timetable:

Action | Date | FR Cite
Interim Final Rule | 08/13/19 | 84 FR 40216
Interim Final Rule Comment Period End | 10/15/19 |
Interim Final Rule | 12/13/19 | 84 FR 68314
Interim Final Rule Effective | 12/13/19 |
Interim Final Rule Comment Period End | 02/11/20 |
Final Rule | 04/00/25 |

Regulatory Flexibility Analysis Required: Yes.

Agency Contact: FAR Policy, DOD/GSA/NASA (FAR), 1800 F Street NW, Washington, DC 20405, Phone: 202 969-4075, Email: farpolicy@gsa.gov.

RIN: 9000-AN83

241. Federal Acquisition Regulation (FAR); FAR Case 2019-009, Prohibition on Contracting With Entities Using Certain Telecommunications and Video Surveillance Services or Equipment [9000-AN92]

Legal Authority: 40 U.S.C. 121(c); 10 U.S.C. ch. 4; 10 U.S.C. ch. 137 legacy provisions; 10 U.S.C. 3016; 51 U.S.C. 20113

Abstract: This rule will finalize an interim rule that prohibits the Government from entering into a contract or extending or renewing a contract with an entity that uses any equipment, system, or service that uses covered telecommunications equipment and services from Huawei Technologies Company, ZTE Corporation, Hytera Communications Corporation, Hangzhou Technology Company, or Dahua Technology Company, to include any subsidiaries or affiliates. This FAR rule protects U.S. networks against cyber activities conducted through Chinese Government-supported telecommunications equipment and services. This rule is being issued in accordance with paragraph (a)(1)(B) of section 889 of the National Defense Authorization Act for Fiscal Year 2019. Paragraph (a)(1)(A) of section 889 is being implemented separately through FAR Case 2018-017. DoD, GSA and NASA received public comments in response to the interim rules published in July and August of 2020, which are being considered in the development of the final rule.

Timetable:

Action | Date | FR Cite
Interim Final Rule | 07/14/20 | 85 FR 42665
Interim Final Rule Effective | 08/13/20 |
Interim Final Rule | 08/27/20 | 85 FR 53126
Interim Final Rule Comment Period End | 09/14/20 |
Interim Final Rule Comment Period End | 10/26/20 |
Interim Final Rule Effective | 10/26/20 |
Final Rule | 04/00/25 |

Regulatory Flexibility Analysis Required: Yes.

Agency Contact: FAR Policy, DOD/GSA/NASA (FAR), 1800 F Street NW, Washington, DC 20405, Phone: 202 969-4075, Email: farpolicy@gsa.gov.

RIN: 9000-AN92

242. Federal Acquisition Regulation (FAR); FAR Case 2021-015, Disclosure of Greenhouse Gas Emissions and Climate-Related Financial Risk [9000-AO32]

Legal Authority: 40 U.S.C. 121(c); 10 U.S.C. ch. 4; 10 U.S.C. ch. 137 legacy provisions; 10 U.S.C. 3016; 51 U.S.C. 20113

Abstract: This rule will require certain Federal contractors to publicly disclose their annual greenhouse gas emissions. Some Federal contractors will also be required to disclose their climate-related financial risk and to set science-based targets for reducing their greenhouse gas emissions. This rule is being issued in accordance with section 5(b)(i) of the Executive Order 14030 titled “Climate-Related Financial Risk.” DoD, GSA, and NASA received public comments in response to the proposed rule published in November of 2022, which are being considered in the development of the final rule.

Timetable:

Action | Date | FR Cite
NPRM | 11/14/22 | 87 FR 68312
Comment Period Extended | 12/23/22 | 87 FR 78910
NPRM Comment Period End | 01/13/23 |
Final Rule | 12/00/24 |

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO32

243. Federal Acquisition Regulation (FAR); FAR Case 2021-017, Cyber Threat and Incident Reporting and Information Sharing [9000-AO34]

Legal Authority: 40 U.S.C. 121(c); 10 U.S.C. ch. 4; 10 U.S.C. ch. 137 legacy provisions; 10 U.S.C. 3016; 51 U.S.C. 20113

Abstract: This rule will authorize agencies to increase the sharing of information about cyber threats and incident information between Government and certain providers. In addition, this rule will require certain contractors to report cyber incidents to the Federal Government to facilitate effective cyber incident response and remediation. This rule requires an offeror to represent that they have submitted all security incident reports in a current, accurate, and complete manner. This rule is being issued pursuant to recommendations from the Office of Management and Budget and the Department of Homeland Security in accordance with sections 2(b), 2(c), 2(g)(i), and 8(b), of the Executive Order 14028 titled “Improving the Nation's Cybersecurity.”

Timetable:

Action | Date | FR Cite
NPRM | 10/03/23 | 88 FR 68055
NPRM Comment Period Extended | 11/01/23 | 88 FR 74970
NPRM Comment Period End | 12/04/23 |
NPRM Comment Period Extended End | 02/02/24 |
Final Rule | 12/00/24 |

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO34

244. Federal Acquisition Regulation (FAR); FAR Case 2023-010, Prohibition on a Bytedance Covered Application [9000-AO58]

Legal Authority: 40 U.S.C. 121(c); 10 U.S.C. ch. 4; 10 U.S.C. ch. 137 legacy provisions; 10 U.S.C. 3016; 51 U.S.C. 20113

Abstract: This rule prohibits executive agencies from having or using the social networking service TikTok, developed or provided by ByteDance Limited, on any information technology owned or managed by the Government. This policy is being implemented as a national security measure to protect Government information and information and communication technology systems pursuant to section 102 of Division R of the Consolidated Appropriations Act, 2023, the No TikTok on Government Devices Act, and its implementing guidance under Office of Management and Budget Memorandum M-23-13, “No TikTok on Government Devices” Implementation Guidance, dated February 27, 2023. DoD, GSA, and NASA received public comments in response to the interim rule published in June of 2023, which are being considered in the development of the final rule.

Timetable:

Action | Date | FR Cite
Interim Final Rule | 06/02/23 | 88 FR 36430
Interim Final Rule Comment Period End | 08/01/23 |
Final Rule | 05/00/25 |

Regulatory Flexibility Analysis Required: Yes.

Agency Contact: FAR Policy, DOD/GSA/NASA (FAR), 1800 F Street NW, Washington, DC 20405, Phone: 202 969-4075, Email: farpolicy@gsa.gov.

RIN: 9000-AO58

245. Federal Acquisition Regulation (FAR); FAR Case 2023-021, Pay Equity and Transparency in Federal Contracting [9000-AO69]

Legal Authority: 40 U.S.C. 121(c); 10 U.S.C. ch. 4; 10 U.S.C. ch. 137 legacy provisions; 10 U.S.C. 3016; 51 U.S.C. 20113

Abstract: This rule will limit or prohibit contractors and subcontractors from seeking and considering information about job applicants' existing or past compensation when making employment decisions for certain positions. This rule will also require contractors and subcontractors to disclose the compensation to be offered to the hired applicant in job announcements for certain positions. This rule will implement a proposed Governmentwide policy developed by the Administrator for Federal Procurement Policy, pursuant to the Administrator's authority.

Timetable:

Action | Date | FR Cite
NPRM | 01/30/24 | 89 FR 5843
NPRM Comment Period End | 04/01/24 |
Final Rule | 12/00/24 |

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO69

DEPARTMENT OF DEFENSE/GENERAL SERVICES ADMINISTRATION/NATIONAL AERONAUTICS AND SPACE ADMINISTRATION (FAR)

Long-Term Actions

246. Federal Acquisition Regulation (FAR); FAR Case 2020-011, Implementation of Federal Acquisition Supply Chain Security Act (FASCSA) Orders [9000-AO13]

Legal Authority: 40 U.S.C. 121(c); 10 U.S.C. ch. 4; 10 U.S.C. ch. 137 legacy provisions; 10 U.S.C. 3016; 51 U.S.C. 20113

Abstract: This rule will protect national security by excluding or removing certain covered products, services, or sources from the Federal supply chain through the issuance of exclusion and removal orders. This rule is being issued pursuant to section 202 of the Strengthening and Enhancing Cyber-capabilities by Utilizing Risk Exposure (SECURE) Technology Act and the Federal Acquisition Security Council (FASC) rule published on August 26, 2021.

Timetable:

Action | Date | FR Cite
Interim Final Rule | 10/05/23 | 88 FR 69503
Interim Final Rule Comment Period End | 12/04/23 |
Interim Final Rule Effective | 12/04/23 |
Final Rule | 08/00/25 |

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO13

DEPARTMENT OF DEFENSE/GENERAL SERVICES ADMINISTRATION/NATIONAL AERONAUTICS AND SPACE ADMINISTRATION (FAR)

Completed Actions

247. Federal Acquisition Regulation (FAR); FAR Case 2022-006, Sustainable Procurement [9000-AO43]

Legal Authority: 40 U.S.C. 121(c); 10 U.S.C. ch. 4; 10 U.S.C. ch. 137 legacy provisions; 10 U.S.C. 3016; 51 U.S.C. 20113

Abstract: This rule will require Federal contractors to provide sustainable products and services to the maximum extent practicable under Federal contracts. This rule will also reorganize and streamline FAR part 23 to focus on current environmental matters. This rule implements the Executive Order 14057 titled “Catalyzing Clean Energy Industries and Jobs Through Federal Sustainability,” and Office of Management and Budget Memorandum M-22-06. DoD, GSA, and NASA received public comments in response to the proposed rule published in August of 2023, which are being considered in the development of the final rule.

Completed:

Reason | Date | FR Cite
Final Rule | 04/24/24 | 89 FR 30212
Final Rule Effective | 05/22/24 |

Regulatory Flexibility Analysis Required: Yes.

Agency Contact: Jennifer Hawes, Phone: 202 969-7386, Email: jennifer.hawes@gsa.gov.

RIN: 9000-AO43

[FR Doc. 2024-16464 Filed 8-15-24; 8:45 am]

BILLING CODE 6820-EP-P